ENVIRONMENTAL PROTECTION AGENCY

[FRL-7939-4]

Science Advisory Board Staff Office; Notification of Advisory Meeting of the Science Advisory Board Regulatory Environmental Modeling (REM) Guidance Review Panel

AGENCY: Environmental Protection Agency (EPA).

ACTION: Notice.

SUMMARY: The Science Advisory Board (SAB) Regulatory Environmental Modeling (REM) Guidance Review Panel will hold a public teleconference to discuss its draft peer review report of the Agency's Draft Guidance on the Development, Evaluation, and Application of Regulatory Environmental Models, dated November 2003 (referred to here also as the Draft Guidance), and the Models Knowledge Base related to modeling activity within the EPA.

DATES: August 17, 2005, 10 a.m. to 1 p.m. (est).

ADDRESSES: The public teleconference will take place via telephone only.

FOR FURTHER INFORMATION CONTACT: Any member of the public who wishes to obtain the teleconference call-in number and access code, would like to submit written or brief oral comments (3 minutes or less for this public teleconference), or who wants further information concerning this public teleconference should contact Dr. Jack Kooyoomjian, Designated Federal Officer (DFO), EPA SAB, 1200 Pennsylvania Avenue, NW., (MC 1400F), Washington, DC 20460; via telephone/voice mail: (202) 343-9984; fax: (202) 233-0643; or e-mail at: kooyoomjian.jack@epa.gov. General information concerning the SAB can be found on the SAB Web site at: http://www.epa.gov/sab.

SUPPLEMENTARY INFORMATION:

Background: The EPA's Council for Regulatory Environmental Modeling (CREM) has requested that the SAB review the Agency's Draft Guidance and Models Knowledge Base. The Draft Guidance was prepared by the CREM in response to the EPA Administrator's request to continue to strengthen EPA's development, evaluation and use of models in the Agency. The CREM Models Knowledge Base provides public internet access to information on some of EPA's most frequently used models. The Draft Guidance and Models Knowledge Base are currently under review by the SAB's REM Guidance Review Panel, and are the subject of this conference call. Additional background information on this review and all previous announcements (68 FR 46602, August 6, 2003; 70 FR 1243, January 6, 2005; 70 FR 12477, March 14, 2005; and 70 FR 30948, May 31, 2005), meeting agendas, review and background materials can be found at the SAB Web site. The purpose of this meeting is for the SAB Panel to review the working draft report.

Availability of Meeting Materials: Copies of the meeting agenda, the roster of the SAB's REM Guidance Review Panel, and the latest working draft report of the REM Guidance Advisory Panel will be posted on the SAB Web site at: http://www.epa.gov/sab/panels/cremgacpanel.html prior to the meeting.

Copies of the Agency's Draft Guidance and Models Knowledge Base and other background materials pertinent to this advisory activity may be obtained at: http://www.epa.gov/crem, or http://www.epa.gov/crem/sab. For further information regarding the Agency's Draft Guidance and Models Knowledge Base or other background materials, please contact Mr. Pasky Pascual of the U.S. EPA, Office of Science Policy, Office of Research & Development (Mail Code 8102), by telephone/voice mail at (202) 564-2259, by fax at (202) 565-2925; or via e-mail at pascual.pasky@epa.gov.

Providing Oral or Written Comments at SAB Meetings: The SAB Staff Office accepts written public comments of any length, and will accommodate oral public comments wherever possible. The SAB Staff Office expects that public statements presented at its meetings will not repeat previously-submitted oral or written statements.

Oral Comments: In general, each individual or group requesting an oral presentation at a public teleconference will be limited to a total time of three minutes (unless otherwise indicated). Requests to provide oral comments must be in writing (e-mail, fax, or mail) and received by the DFO no later than noon (Eastern Time) five business days prior to the meeting in order to reserve time on the meeting agenda.

Written Comments: Although the SAB Staff Office accepts written comments until the date of the meeting (unless otherwise stated), written comments should be received in the SAB Staff Office no later than noon (Eastern Time) five business days prior to the meeting so that the comments may be made available to the Panelists for their consideration. Comments should be supplied to the DFO (preferably by e-mail) at the address/contact information noted above in the following formats: one hard copy with original signature, and one electronic copy via e-mail (acceptable file format: Adobe Acrobat PDF, WordPerfect, Word, or Rich Text files (in IBM-PC/Windows 98/2000/XP format)).

Meeting Access: Individuals requiring special accommodation for this teleconference meeting should contact the DFO at the phone number or e-mail address noted above at least five business days prior to the meeting so that appropriate arrangements can be made.

Dated: July 11, 2005.
Anthony F. Maciorowski,
Acting Director, EPA Science Advisory Board Staff Office.

[FR Doc. 05-13981 Filed 7-14-05; 8:45 am]

BILLING CODE 6560-50-P